DEPARTMENT OF ENERGY

Federal Energy Regulatory Commission

[OE Docket No. EA-381]

Application to Export Electric Energy; E-T Global Energy, LLC

AGENCY: Office of Electricity Delivery and Energy Reliability, DOE.

ACTION: Notice of application.

SUMMARY: E-T Global Energy, LLC (E-T Global) has applied for authority to transmit electric energy from the United States to Mexico pursuant to section 202(e) of the Federal Power Act.

DATES: Comments, protests, or motions to intervene must be submitted on or before June 9, 2011.

ADDRESSES: Comments, protests, or motions to intervene should be addressed to: Christopher Lawrence, Office of Electricity Delivery and Energy Reliability, Mail Code: OE-20, U.S. Department of Energy, 1000 Independence Avenue, SW., Washington, DC 20585-0350. Because of delays in handling conventional mail, it is recommended that documents be transmitted by overnight mail, by electronic mail to Christopher.Lawrence@hq.doe.gov, or by facsimile to 202-586-8008.

FOR FURTHER INFORMATION CONTACT: Christopher Lawrence (Program Office) 202-586-5260.

SUPPLEMENTARY INFORMATION: Exports of electricity from the United States to a foreign country are regulated by the Department of Energy (DOE) pursuant to sections 301(b) and 402(f) of the Department of Energy Organization Act (42 U.S.C. 7151(b), 7172(f)) and require authorization under section 202(e) of the FPA (16 U.S.C. 824a(e)).

On May 10, 2011, DOE received an application from E-T Global for authority to transmit electric energy from the United States to Mexico for five years as a power marketer using existing international transmission facilities. E-T Global does not own any electric transmission facilities nor does it hold a franchised service area.

The electric energy that E-T Global proposes to export to Mexico would be surplus energy purchased from electric utilities and other entities within the United States. The existing international transmission facilities to be utilized by E-T Global have previously been authorized by Presidential permits issued pursuant to Executive Order 10485, as amended, and are appropriate for open access transmission by third parties.

In its application, E-T Global requested that DOE expedite the processing of this application in order for E-T Global to begin exports in compliance with the terms of its Master Sale and Purchase Agreement with the Commission Federal de Electricidad (CFE). Accordingly, DOE has shortened the public comment period to 15 days.

Procedural Matters: Any person desiring to be heard in this proceeding should file a comment or protest to the application at the address provided above. Protests should be filed in accordance with Rule 211 of the Federal Energy Regulatory Commission's (FERC) Rules of Practice and Procedures (18 CFR 385.211). Any person desiring to become a party to these proceedings should file a motion to intervene at the above address in accordance with FERC Rule 214 (18 CFR 385.211, 385.214). Fifteen copies of each comment, protest, or motion to intervene should be filed with DOE on or before the date listed above.

Comments, protests, or motions to intervene on the E-T Global application to export electric energy to Mexico should be clearly marked with Docket No. EA-381. An additional copy of each document is to be filed directly with Eduardo Padilla, Compliance Manager, E-T Global Energy, LLC, 505 North Big Spring, Suite 101, Midland, TX 79701. A final decision will be made on this application after the environmental impacts have been evaluated pursuant to DOE's National Environmental Policy Act Implementing Procedures (10 CFR Part 1021) and a determination is made by DOE that the proposed action will not have an adverse impact on the reliability of the U.S. electric power supply system.

Copies of this application will be made available, upon request, for public inspection and copying at the address provided above, by accessing the program Web site at http://www.oe.energy.gov/permits_pending.htm, or by e-mailing Odessa Hopkins at Odessa.hopkins@hq.doe.gov.

Issued in Washington, DC, on May 19, 2011.
Anthony J. Como,
Director, Permitting and Siting, Office of Electricity Delivery and Energy Reliability.

[FR Doc. 2011-12922 Filed 5-24-11; 8:45 am]

BILLING CODE 6450-01-P